NATIONAL CREDIT UNION ADMINISTRATION

Sunshine Act; Notice of Matter To Be Deleted From the Agenda of a Previously Announced Agency Meeting

TIME AND DATE: 11:15 a.m., Thursday, May 20, 2010.

PLACE: Board Room, 7th Floor, Room 7047, 1775 Duke Street, Alexandria, VA 22314-3428.

STATUS: Closed.

MATTER TO BE DELETED: 1. Member Business Loan Waiver Appeal. Closed pursuant to Exemption (8).

FOR FURTHER INFORMATION CONTACT: Mary Rupp, Secretary of the Board, Telephone: 703-518-6304.

Mary Rupp,
Board Secretary.

[FR Doc. 2010-12071 Filed 5-17-10; 11:15 am]

BILLING CODE P